NATIONAL LABOR RELATIONS BOARD

Sunshine Act Meeting

Agency Holding the Meeting: National Labor Relations Board.

Time and Date: 10 a.m., Tuesday, July 9, 2003.

Place: Board Conference Room, Eleventh Floor, 1099 Fourteenth St., NW., Washington, DC 20570.

Status: Closed to public observation pursuant to 5 U.S.C. Section 552b(c)(2) (internal personnel rules and practices, (6) (personal privacy), and (9)(B) (disclosure would significantly frustrate implementation of a proposed Agency action).

Matters to be Considered: Internal Administrative Matters.

Contact Person for More Information: Lester A. Heltzer, Executive Secretary, Washington, DC 20570, Telephone: (202) 273-1067.

Dated, Washington, DC, July 30, 2003.
By Direction of the Board.
Lester A. Heltzer,
Executive Secretary, National Labor Relations Board.

[FR Doc. 03-19881 Filed 7-31-03; 12:15 am]

BILLING CODE 7545-01-M